DEPARTMENT OF HEALTH AND HUMAN SERVICES

Indian Health Service

Division of Behavioral Health, Office of Clinical and Preventive Services; Funding Opportunities: Domestic Violence Prevention Initiative

Announcement Type: New.

Funding Announcement Number: HHS-2017-IHS-DVPI-0001.

Catalog of Federal Domestic Assistance Number (CFDA): 93.933.

Key Dates

Application Deadline Date: August 31, 2017.

Review Date: September 11, 2017.

Earliest Anticipated Start Date: September 30, 2017.

Signed Tribal Resolutions Due Date: August 31, 2017.

Proof of Non-Profit Status Due Date: August 31, 2017.

I. Funding Opportunity Description

Statutory Authority

The Indian Health Service (IHS), Office of Clinical and Preventive Services (OCPS), Division of Behavioral Health (DBH) is accepting applications for a three-year funding cycle, to continue the planning, development, and implementation of the Domestic Violence Prevention Initiative (DVPI). This program was first established by the Omnibus Appropriations Act of 2009, Public Law 111-8, 123 Stat. 524, 735, and continued in the annual appropriations acts since that time. This program is authorized under the authority of 25 U.S.C. 13, the Snyder Act, and the Indian Health Care Improvement Act, 25 U.S.C. 1601-1683. This program is described in the Catalog of Federal Domestic Assistance under 93.933.

Background

The DBH serves as the primary source of national advocacy, policy development, management and administration of behavioral health, alcohol and substance abuse, and family violence prevention programs. In 2015, DBH funded 57 Tribes, Tribal organizations, Urban Indian Organization (UIOs), and IHS federal facilities that participate in a nationally coordinated project to expand outreach and increase awareness of domestic and sexual violence and provide victim advocacy, intervention, case coordination, policy development, community response teams, and community and school education programs. The DVPI promotes the development of evidence-based and practice-based models that represent culturally appropriate prevention and treatment approaches to domestic and sexual violence from a community-driven context.

Purpose

The primary purpose of this grant program is to accomplish the DVPI goals listed below:

1. Build Tribal, UIO, and Federal capacity to provide coordinated community responses to American Indian/Alaska Native (AI/AN) victims of domestic and sexual violence.

2. Increase access to domestic and sexual violence prevention, advocacy, crisis intervention, and behavioral health services for AI/AN victims and their families.

3. Promote trauma-informed services for AI/AN victims of domestic and sexual violence and their families.

4. Offer health care provider and community education on domestic and sexual violence.

5. Respond to the health care needs of AI/AN victims of domestic and sexual violence.

6. Incorporate culturally appropriate practices and/or faith-based services for AI/AN victims of domestic and sexual violence.

To accomplish the DVPI goals, IHS invites applicants to address one of the Purpose Areas below:

• Purpose Area 1: Domestic and Sexual Violence Prevention, Advocacy, and Coordinated Community Responses

• Purpose Area 2: Provide Forensic Health Care Services

Evidence-Based Practices, Practice-Based Evidence, Promising Practices, and Local Efforts

IHS strongly emphasizes the use of data and evidence in policymaking and program development and implementation. Applicants under each Purpose Area must identify one or more evidence-based practice, practice-based evidence, best or promising practice, and/or local effort they plan to implement in the Project Narrative section of their application. The DVPI program Web site (https://www.ihs.gov/dvpi/bestpractices/) is one resource that applicants may use to find information to build on the foundation of prior domestic and sexual violence prevention and treatment efforts, in order to support the IHS, Tribes, Tribal organizations, and UIOs in developing and implementing Tribal and/or culturally appropriate domestic and sexual violence prevention and early intervention strategies.

Purpose Areas

Purpose Area 1: Domestic and Sexual Violence Prevention, Advocacy, and Coordinated Community Responses. IHS is seeking applicants to address the following broad objectives:

• Expand crisis intervention, counseling, advocacy, behavioral health, and case management services to victims of domestic and sexual violence;

• Foster coalitions and networks to improve coordination and collaboration among victim service providers, health care providers, and other responders;

• Educate and train service providers on trauma, domestic violence, and sexual assault and its impact on victims;

• Promote community education for adults and youth on domestic and sexual violence;

• Improve organizational practices to improve services for individuals seeking services for domestic and sexual violence;

• Establish coordinated community response policies, protocols, and procedures to enhance domestic and sexual violence intervention and prevention;

• Integrate culturally appropriate practices and/or faith-based services to facilitate the social and emotional well-being of victims and their children; and

• Implement trauma informed care interventions to support victims and their children.

Purpose Area 2: Forensic Health Care Services. IHS is seeking applicants to address the following broad objectives:

• Expand available medical forensic services to victims of domestic and sexual violence;

• Foster coalitions and networks to improve coordination and collaboration among forensic health care programs to ensure adequate services exist either on-site or by referral for victims of domestic and sexual violence 24/7 year round;

• Educate and train providers to conduct medical forensic examinations;

• Promote community education on available medical forensic services;

• Improve health system organizational practices to improve medical forensic services and care coordination among victim services;

• Establish local health system policies for sexual assault, domestic violence, and child maltreatment;

• Integrate culturally appropriate treatment services throughout the medical forensic examination process; and

• Implement trauma informed care interventions to support victims and their children.

II. Award Information

Type of Award

Grant.

Estimated Funds Available

The total amount of funding identified for the current fiscal year (FY) 2017 is approximately $3,600,000. Individual award amounts are anticipated to be from $50,000 to $200,000. IHS expects to allocate funding for the 12 IHS service areas as described below. Applicants will be awarded according to their location within their respective IHS service area and will not compete with applicants from other IHS service areas. UIOs applicants will be selected from a category set aside for UIO applicants only. UIO awards will be $100,000 each. The amount of funding available for competing and continuation awards issued under this announcement are subject to the availability of appropriations and budgetary priorities of the Agency. IHS is under no obligation to make awards that are selected for funding under this announcement.

Anticipated Number of Awards

The amounts made available for the DVPI shall be allocated at the discretion of the Director, IHS and shall remain available until expended. IHS utilizes a national funding formula developed in consultation with Tribes and the National Tribal Advisory Committee (NTAC) on behavioral health, as well as conferring with UIOs. The funding formula provides the allocation methodology for each IHS Service Area.

The number of anticipated awards is dependent on the number of applications received in response to the announcement and available funds. If funds remain after all applications are awarded in each IHS service area, the leftover amount will be compiled and will be used to award applications according to rank order without regard to IHS service area until all funds are awarded. The funding breakdown by area is as follows:

Alaska IHS Service Area

IHS expects to provide $420,000 in total awards for a 12-month project period.

Albuquerque IHS Service Area

IHS expects to provide $191,000 in total awards for a 12-month project period.

Bemidji IHS Service Area

IHS expects to provide $204,000 in total awards for a 12-month project period.

Billings IHS Service Area

IHS expects to provide $184,000 in total awards for a 12-month project period.

California IHS Service Area

IHS expects to provide one award for a total of $144,000 for a 12-month project period.

Great Plains IHS Service Area

IHS expects to provide $330,000 in total awards for a 12-month project period.

Nashville IHS Service Area

IHS expects to provide one award for a total of $80,000 for a 12-month project period.

Navajo IHS Service Area

IHS expects to provide $534,000 in total awards for a 12-month project period.

Oklahoma City IHS Service Area

IHS expects to provide $520,000 in total awards for a 12-month project period.

Phoenix IHS Service Area

IHS expects to provide $330,000 in total awards for a 12-month project period.

Portland IHS Service Area

IHS expects to provide $208,000 in total awards for a 12-month project period.

Tucson IHS Service Area

IHS expects to provide one award for a total of $55,000 for a 12-month project period.

Urban Indian Organizations

IHS expects to provide $400,000 in total awards for a 12-month project period.

Project Period

The project period is for three years and will run consecutively from September 30, 2017 to September 29, 2020.

III. Eligibility Information

I.

1. Eligibility

To be eligible for this FY2017 funding opportunity announcement, only “New Applicants” are eligible to apply. An applicant cannot be an existing DVPI awardee under this announcement. Also, an applicant must be defined as one of the following under 25 U.S.C. 1603:

• A Federally-recognized Indian Tribe as defined by 25 U.S.C. 1603(14). The term “Indian Tribe” means any Indian Tribe, band, nation, or other organized group or community, including any Alaska Native village or group or regional or village corporation as defined in or established pursuant to the Alaska Native Claims Settlement Act (85 Stat. 688) [43 U.S.C. 1601 et seq.], which is recognized as eligible for the special programs and services provided by the United States to Indians because of their status as Indians.

• A Tribal organization as defined by 25 U.S.C. 1603(26). The term “organization” has the meaning given the term in section 4 of the Indian Self-Determination and Education Assistance Act (25 U.S.C. 5304): “Tribal organization” means the recognized governing body of any Indian tribe; any legally established organization of Indians which is controlled, sanctioned, or chartered by such governing body or which is democratically elected by the adult members of the Indian community to be served by such organization and which includes the maximum participation of Indians in all phases of its activities: Provided, That in any case where a contract is let or grant made to an organization to perform services benefiting more than one Indian Tribe, the approval of each such Indian tribe shall be a prerequisite to the letting or making of such contract or grant.

• An Urban Indian organization as defined by 25 U.S.C. 1603(29): A nonprofit corporate body situated in an urban center, governed by an Urban Indian controlled board of directors, and providing for the maximum participation of all interested Indian groups and individuals, which body is capable of legally cooperating with other public and private entities for the purpose of performing the activities described in 25 U.S.C. 1653(a). Applicants must provide proof of non-profit status with the application, e.g., 501(c)(3).

Note: Please refer to Section IV.2 (Application and Submission Information/Subsection 2, Content and Form of Application Submission) for additional proof of applicant status documents required, such as Tribal resolutions, proof of non-profit status, etc.

2. Cost Sharing or Matching

The IHS does not require matching funds or cost sharing for grants or cooperative agreements.

3. Other Requirements

If application budgets exceed the highest dollar amount outlined under the “Estimated Funds Available” section within this funding announcement, the application will be considered ineligible and will not be reviewed for further consideration. If deemed ineligible, IHS will not return the application. The applicant will be notified by email by the Division of Grants Management (DGM) of this decision.

Tribal Resolution

An Indian Tribe or Tribal organization that is proposing a project affecting another Indian Tribe must include resolutions from all affected Tribes to be served. Applications by Tribal organizations will not require a specific Tribal resolution if the current Tribal resolution(s) under which they operate would encompass the proposed grant activities.

An official signed Tribal resolution must be received by the DGM prior to a Notice of Award (NoA) being issued to any applicant selected for funding. However, if an official signed Tribal resolution cannot be submitted with the electronic application submission prior to the official application deadline date, a draft Tribal resolution must be submitted by the deadline in order for the application to be considered complete and eligible for review. The draft Tribal resolution is not in lieu of the required signed resolution, but is acceptable until a signed resolution is received. If an official signed Tribal resolution is not received by DGM when funding decisions are made, then a NoA will not be issued to that applicant and they will not receive any IHS funds until such time as they have submitted a signed resolution to the Grants Management Specialist listed in this Funding Announcement.

Proof of Non-Profit Status

Organizations claiming non-profit status must submit proof. A copy of the 501(c)(3) Certificate must be received with the application submission by the application deadline date listed under the Key Dates section on page one of this announcement.

An applicant submitting any of the above additional documentation after the initial application submission due date is required to ensure the information was received by IHS DGM by obtaining documentation confirming delivery (i.e. FedEx tracking, postal return receipt, etc.).

IV. Application and Submission Information

1. Obtaining Application Materials

The application package and detailed instructions for this announcement can be found at http://www.Grants.gov or https://www.ihs.gov/dgm/funding/.

Questions regarding the electronic application process may be directed to Mr. Paul Gettys at (301) 443-2114 or (301) 443-5204.

2. Content and Form Application Submission

The applicant must include the project narrative as an attachment to the application package. Mandatory documents for all applicants include:

• Table of contents.

• Abstract (one page) summarizing the project.

• Application forms:

○ SF-424, Application for Federal Assistance.

○ SF-424A, Budget Information—Non-Construction Programs.

○ SF-424B, Assurances—Non-Construction Programs.

• Statement of Need (must be single-spaced and not exceed two pages).

○ Includes the Tribe, Tribal organization, or UIO background information.

• Project Narrative (must be included as an attachment to the application package and must be single-spaced and not exceed 10 pages).

○ Includes proposed scope of work, required objectives, and activities that provide a description of what will be accomplished, including a one-page timeline chart, and a local data collection plan.

• Budget Justification and Narrative (must be single-spaced and not exceed four pages).

• Tribal Resolution(s).

• Letter(s) of Support:

○ For all applicants: Local organizational partners;

○ For all applicants: Community partners;

○ For Tribal organizations: From the board of directors (or relevant equivalent);

○ For Urban Indian organizations: From the board of directors (or relevant equivalent).

• 501(c)(3) Certificate (if applicable).

• Biographical sketches for all Key Personnel (e.g., project director, project coordinator, grants coordinator, etc.).

• Contractor/Consultant resumes or qualifications and scope of work.

• Disclosure of Lobbying Activities (SF-LLL).

• Certification Regarding Lobbying (GG-Lobbying Form).

• Copy of current Negotiated Indirect Cost rate (IDC) agreement (required in order to receive IDC).

• Organizational Chart (optional).

• Documentation of current Office of Management and Budget (OMB) Financial Audit (if applicable).

Acceptable forms of documentation include:

○ Email confirmation from Federal Audit Clearinghouse (FAC) that audits were submitted; or

○ Face sheets from audit reports. These can be found on the FAC Web site: https://harvester.census.gov/facdissem/Main.aspx.

Public Policy Requirements

All Federal-wide public policies apply to IHS grants and cooperative agreements with exception of the Discrimination policy.

Requirements for Statement of Need

The statement of need describes the history and current situation in the applicant's Tribal community (“community” means the applicant's Tribe, village, Tribal organization, or consortium of Tribes or Tribal organizations). The statement of need provides the facts and evidence that support the need for the project and establishes that the Tribe, Tribal organization, or UIO understands the problems and can reasonably address them and provides background information on the Tribe, Tribal organization, or UIO. The statement of need must not exceed two single-spaced pages and must be type written, have consecutively number pages, use black type not smaller than 12 point, and printed on one side of standard size 8½″ x 11″ paper.

Requirements for Project and Budget Narratives

A. Project Narrative 10 Pages

The project narrative (Parts A through E listed below) should be a separate Word document that not to exceed 10 pages and must: Be single-spaced, type written, have consecutively numbered pages, use black type not smaller than 12 points, and be printed on one side only of standard size 8½″ x 11″ paper.

Be sure to succinctly address and answer all questions listed under the evaluation criteria (refer to Section V.1, Evaluation Criteria in this announcement) and place all responses and required information in the correct section (noted below), or they will not be considered or scored. These narratives will assist the Objective Review Committee (ORC) in becoming familiar with the applicant's activities and accomplishments prior to this possible grant award. If the narrative exceeds the page limit, only the first 10 pages will be reviewed. The 10-page limit for the narrative does not include the table of contents, abstract, statement of need, standard forms, Tribal resolution(s), budget, budget justification narrative, and/or other appendix items.

There are five (5) parts to the project narrative:

• Part A—Goals and Objectives;

• Part B—Project Activities;

• Part C—Timeline Chart (template provided);

• Part D—Organizational Capacity and Staffing/Administration; and

• Part E—Local Data Collection Plan.

Below are additional details about what must be included in the project narrative.

Part A: Goals and Objectives

• Describe the purpose of the proposed project that includes a clear statement of goals.

• Specifically address all eight (8) required objectives listed for DVPI Purpose Area #1 or Purpose Area #2. The objectives should be clearly outlined in the project narrative. If the application does not address all required objectives, the application will be considered ineligible and will not be reviewed for further consideration.

• Applicants are allowed to include additional objectives if there are proposed activities that do not fall within the required objectives. Additional activities not related to the required objectives must clearly correspond to a specific objective.

Part B: Project Activities

• Clearly outline how the identified project activities are linked to the objectives listed for DVPI Purpose Area #1 or Purpose Area #2.

• Describe how project activities will increase the capacity of the identified community to plan and improve the coordination of a collaborative domestic and sexual violence services.

• Describe anticipated barriers to progress of the project and how the barriers will be addressed.

• If the applicant plans to include an advisory body in the project, describe its membership, roles and functions, and frequency of meetings.

• Identify any other organization(s) that will participate in the proposed project. Describe their roles, responsibilities, and demonstrate their commitment to the project. Include a list of these organizations as an attachment to the application. In the attached list, indicate the organizations that the Tribe, Tribal organization, or UIO has worked with or currently works with. [Note: The attachment will not count as part of the 10-page maximum.]

Part C: Timeline

• Provide a one-year (first budget year) timeline chart depicting a realistic timeline for the project period showing key activities, milestones, and responsible staff. These key activities should include the requirements outlined for DVPI Purpose Area #1 or Purpose Area #2. [Note: The timeline chart should be included as part of the Project Narrative as specified here. It should not be placed as an attachment.] The timeline chart should not exceed one page.

Part D: Organizational Capacity and Staffing/Administration

• Describe the management capability and experience of the applicant Tribe, Tribal organization, or UIO and other participating organizations in administering similar grants and projects.

• Discuss the applicant Tribe, Tribal organization, UIO experience and capacity to provide culturally appropriate/competent services to the community and specific populations of focus.

• Describe the resources available for the proposed project (e.g., facilities, equipment, information technology systems, and financial management systems).

• Describe how project continuity will be maintained if/when there is a change in the operational environment (e.g., staff turnover, change in project leadership, change in elected officials) to ensure project stability over the life of the grant.

• Provide a complete list of staff positions for the project, including the project director, project coordinator, and other key personnel, showing the role of each and their level of effort and qualifications.

• Include position descriptions as attachments to the project proposal/application for the project director, project coordinator, and all key personnel. Position descriptions should not exceed one page each. [Note: Attachments will not count against the 10 page maximum.]

• For individuals that are identified and currently on staff, include a biographical sketch for the project director, project coordinator, and other key positions as attachments to the project proposal/application. Each biographical sketch should not exceed one page. [Note: Attachments will not count against the 10 page maximum.] Do not include any of the following:

○ Personally Identifiable Information;

○ Resumes; or

○ Curriculum Vitae.

Part E: Local Data Collection Plan

• The Local Data Collection Plan (LDCP) template does not count toward the page limit. [Note: The LDCP should be placed as an attachment.]

• Utilizing the LDCP template, applicants should describe a plan for gathering data relevant to the DVPI Purpose Area objectives to which you are applying. This includes a plan for each activity that details:

○ A data collection method, a data source, a data measurement tool, identified staff for data management, and a data collection timeline.

○ In addition, a narrative section after the template should describe how the applicant will submit the required data, how the applicant will monitor the data, and outline the applicant's ability to ensure accurate data tracking and reporting (e.g., submission of annual progress reporting requirements that will be collected annually through the project period on the web-based DVPI data portal).

• How the project will work with the regional Technical Assistance (TA) Providers for evaluation (the regional Tribal Epidemiology Center). The TA Providers for evaluation are available to each grantee to help with refining the LDCP, technical assistance with evaluation plans, data collection, data measurement, and data management to the grantees.

B. Budget Narrative 4 Pages

This narrative must include a line item budget with a narrative justification for all expenditures identifying reasonable allowable, allocable costs necessary to accomplish the goals and objectives as outlined in the project narrative. Budget should match the scope of work described in the project narrative. The budget and budget narrative should not exceed four pages.

Templates

Templates are provided for the project narrative, timeline chart, LDCP, budget and budget narrative, and biographical sketch for use by the applicant. These templates can be located and downloaded at the DVPI Web site at: https://www.ihs.gov/dvpi/newsannouncements.

3. Submission Dates and Times

Applications must be submitted electronically through Grants.gov by 11:59 p.m. Eastern Daylight Time (EDT) on the Application Deadline Date listed in the Key Dates section on page one of this announcement. Any application received after the application deadline will not be accepted for processing, nor will it be given further consideration for funding. Grants.gov will notify the applicant via email if the application is rejected.

If technical challenges arise and assistance is required with the electronic application process, contact Grants.gov Customer Support via email to support@grants.gov or at (800) 518-4726. Customer Support is available to address questions 24 hours a day, 7 days a week (except on Federal holidays). If problems persist, contact Mr. Gettys (Paul.Gettys@ihs.gov), DGM Grant Systems Coordinator, by telephone at (301) 443-2114 or (301) 443-5204. Please be sure to contact Mr. Gettys at least ten days prior to the application deadline. Please do not contact the DGM until you have received a Grants.gov tracking number. In the event you are not able to obtain a tracking number, call the DGM as soon as possible.

4. Intergovernmental Review

Executive Order 12372 requiring intergovernmental review is not applicable to this program.

5. Funding Restrictions

• Pre-award costs are not allowable.

• The available funds are inclusive of direct and appropriate indirect costs.

• Only one grant/cooperative agreement will be awarded per applicant.

• IHS will not acknowledge receipt of applications.

6. Electronic Submission Requirements

All applications must be submitted electronically. Please use the http://www.Grants.gov Web site to submit an application electronically and select the “Find Grant Opportunities” link on the homepage. Follow the instructions for submitting an application under the “Package” tab. Electronic copies of the application may not be submitted as attachments to email messages addressed to IHS employees or offices.

If the applicant needs to submit a paper application instead of submitting electronically through Grants.gov, a waiver must be requested. Prior approval must be requested and obtained from Mr. Robert Tarwater, Director, DGM, (see Section IV.6 below for additional information). A written waiver request must be sent to GrantsPolicy@ihs.gov with a copy to Robert.Tarwater@ihs.gov. The waiver must (1) be documented in writing (emails are acceptable), before submitting a paper application, and (2) include clear justification for the need to deviate from the required electronic grants submission process.

Once the waiver request has been approved, the applicant will receive a confirmation of approval email containing submission instructions and the mailing address to submit the application. A copy of the written approval must be submitted along with the hardcopy of the application that is mailed to DGM. Paper applications that are submitted without a copy of the signed waiver from the Director of the DGM will not be reviewed or considered for funding. The applicant will be notified via email of this decision by the Grants Management Officer of the DGM. Paper applications must be received by the DGM no later than 5:00 p.m., EDT, on the Application Deadline Date listed in the Key Dates section on page one of this announcement. Late applications will not be accepted for processing or considered for funding. Applicants that do not adhere to the timelines for System for Award Management (SAM) and/or http://www.Grants.gov registration or that fail to request timely assistance with technical issues will not be considered for a waiver to submit a paper application.

Please be aware of the following:

• Please search for the application package in http://www.Grants.gov by entering the CFDA number or the Funding Opportunity Number. Both numbers are located in the header of this announcement.

• If you experience technical challenges while submitting your application electronically, please contact Grants.gov Support directly at: support@grants.gov or (800) 518-4726. Customer Support is available to address questions 24 hours a day, 7 days a week (except on Federal holidays).

• Upon contacting Grants.gov, obtain a tracking number as proof of contact. The tracking number is helpful if there are technical issues that cannot be resolved and a waiver from the agency must be obtained.

• Applicants are strongly encouraged not to wait until the deadline date to begin the application process through Grants.gov as the registration process for SAM and Grants.gov could take up to fifteen working days.

• Please use the optional attachment feature in Grants.gov to attach additional documentation that may be requested by the DGM.

• All applicants must comply with any page limitation requirements described in this funding announcement.

• After electronically submitting the application, the applicant will receive an automatic acknowledgment from Grants.gov that contains a Grants.gov tracking number. The DGM will download the application from Grants.gov and provide necessary copies to the appropriate agency officials. Neither the DGM nor the DBH will notify the applicant that the application has been received.

• Email applications will not be accepted under this announcement.

Dun and Bradstreet (D&B) Data Universal Numbering System (DUNS)

All IHS applicants and grantee organizations are required to obtain a DUNS number and maintain an active registration in the SAM database. The DUNS number is a unique 9-digit identification number provided by D&B which uniquely identifies each entity. The DUNS number is site specific; therefore, each distinct performance site may be assigned a DUNS number. Obtaining a DUNS number is easy, and there is no charge. To obtain a DUNS number, you may access it through http://fedgov.dnb.com/webform, or to expedite the process, call (866) 705-5711.

All HHS recipients are required by the Federal Funding Accountability and Transparency Act of 2006, as amended (“Transparency Act”), to report information on sub-awards. Accordingly, all IHS grantees must notify potential first-tier sub-recipients that no entity may receive a first-tier sub-award unless the entity has provided its DUNS number to the prime grantee organization. This requirement ensures the use of a universal identifier to enhance the quality of information available to the public pursuant to the Transparency Act.

System for Award Management (SAM)

Organizations that were not registered with Central Contractor Registration and have not registered with SAM will need to obtain a DUNS number first and then access the SAM online registration through the SAM home page at https://www.sam.gov (U.S. organizations will also need to provide an Employer Identification Number from the Internal Revenue Service that may take an additional 2-5 weeks to become active). Completing and submitting the registration takes approximately one hour to complete and SAM registration will take 3-5 business days to process. Registration with the SAM is free of charge. Applicants may register online at https://www.sam.gov.

Additional information on implementing the Transparency Act, including the specific requirements for DUNS and SAM, can be found on the IHS Grants Management, Grants Policy Web site: http://www.ihs.gov/dgm/policytopics/.

V. Application Review Information

The instructions for preparing the application narrative also constitute the evaluation criteria for reviewing and scoring the application. Weights assigned to each section are noted in parentheses. The 10 page narrative should include only the first year of activities; information for multi-year projects should be included as an appendix. The narrative section should be written in a manner that is clear to outside reviewers unfamiliar with prior related activities of the applicant. It should be well-organized, succinct, and contain all information necessary for reviewers to understand the project fully. Points will be assigned to each evaluation criteria adding up to a total of 100 points. A minimum score of 65 points is required for funding. Points are assigned as follows:

1. Evaluation Criteria

Applications will be reviewed and scored according to the quality of responses to the required application components in Sections A-E outlined below. In developing the required sections of this application, use the instructions provided for each section, which have been tailored to this program. The application must use the five sections (Sections A-E) listed below in developing the application. The applicant must place the required information in the correct section or it will not be considered for review. The application will be scored according to how well the applicant addresses the requirements for each section listed below. The number of points after each section heading is the maximum number of points the review committee may assign to that section. Although scoring weights are not assigned to individual bullets, each bullet is assessed deriving the overall section score.

A. Statement of Need (History and Current Situation in Your Tribal Community) (35 Points)

The statement of need should not exceed two single-spaced pages.

1. Identify the proposed catchment area and provide demographic information on the population(s) to receive services through the targeted systems or agencies, e.g., race, ethnicity, Federally recognized Tribe, language, age, socioeconomic status, sexual identity (sexual orientation, gender identity), and other relevant factors, such as literacy. Describe the stakeholders and resources in the catchment area that can help implement the needed capacity development.

2. Based on the information and/or data currently available, document the prevalence of domestic and sexual violence.

3. Based on the information and/or data currently available, document the need to increase the capacity to implement, sustain, and improve effective domestic and sexually violence services in the proposed catchment area that is consistent with the purpose of the program and the notice of funding opportunity announcement. Based on available data, describe the service gaps and other problems related to the response to domestic and sexual violence. Identify the source of the data. Documentation of need may come from a variety of qualitative and quantitative sources. Examples of data sources for the quantitative data that could be used are local epidemiologic data (Tribal Epidemiology Centers and/or Indian Health Services Trends) state data (e.g., from state needs assessments), and/or national data (e.g., Substance Abuse and Mental Health Services Administration, National Survey on Drug Use and Health) and/or national data (e.g., National Center for Health Statistics, Centers for Disease Control reports, Department of Justice or Census data, and My Tribal Area from the U.S. Census Data). This list is not exhaustive; applicants may submit other valid data, as appropriate for the applicant's program.

4. Describe the existing health service gaps, barriers, and other systemic challenges related to the need for planning and capacity building and coordination of domestic and sexual violence services.

5. Describe potential project partners and community resources in the catchment area that can participate in the planning process and capacity building.

6. Affirm the goals of the project are consistent with priorities of the Tribal government or board of directors and that the governing body is in support of this application.

B. Project Narrative/Proposed Approach (20 Points)

The project narrative required components (listed as the five components (A-E) in “Requirements for Project Narrative”) together should not exceed 10 single-spaced pages.

1. Describe the purpose of the proposed project, including a clear statement of goals and objectives. The proposed project narrative is required to address all eight objectives listed for DVPI Purpose Area #1 or Purpose Area #2. Describe how achievement of goals will increase system capacity to support the goals and objectives or activities for DVPI Purpose Area #1 or Purpose Area #2.

2. Describe how project activities will increase the capacity of the identified community to plan and improve the coordination of a collaborative service system for victims of domestic and sexual violence. Describe anticipated barriers to progress of the project and how these barriers will be addressed.

3. Describe how the proposed project will address issues of diversity within the population of focus including age, race, gender, ethnicity, culture/cultural identity, language, sexual orientation, disability, and literacy.

4. Describe how the proposed project will address domestic violence and sexual assault in the communities being served.

5. Describe how the efforts of the proposed project will be coordinated with any other related Federal grants, including IHS, the Department of Justice (DOJ), Substance Abuse and Mental Health Services Administration (SAMHSA), or Bureau of Indian Affairs (BIA) services provided in the community (if applicable).

6. Provide a timeline chart depicting a realistic timeline for the entire project period showing key activities, milestones, and responsible staff. These key activities should include the requirements outlined in the chosen Purpose Area. [Note: The timeline chart should be part of the Project Narrative as specified in the “Requirements for Project Proposals” section. It should not be placed in as an attachment.]

7. If the applicant plans to include an advisory body in the project, describe its membership, roles and functions, and frequency of meetings.

8. Identify any other organization(s) that will participate in the proposed project. Describe their roles, responsibilities and demonstrate their commitment to the project. Include a list of these organizations as an attachment to the project proposal/application. In the attached list, indicate the organizations that the Tribe, Tribal organization or UIO has worked with or currently works with. [Note: The attachment will not count as part of the 10-page maximum.]

C. Organizational Capacity and Staffing/Administration (15 Points)

1. Describe the management capability and experience of the applicant Tribe, Tribal organization, or UIO and other participating organizations in administering similar grants and projects.

2. Identify the department/division that will administer this project. Include a description of this entity, its function, and its placement within the organization (Tribe, Tribal organization, or UIO). If the program is to be managed by a consortium or Tribal organization, identify how the project office relates to the member community/communities.

3. Discuss the applicant Tribe, Tribal organization, or UIO experience, and capacity to provide culturally appropriate/competent services to the community and specific populations of focus.

4. Describe the resources available for the proposed project (e.g., facilities, equipment, information technology systems, and financial management systems).

5. Describe how project continuity will be maintained if/when there is a change in the operational environment (e.g., staff turnover, change in project leadership, change in elected officials) to ensure project stability over the life of the grant.

6. Provide a list of staff positions for the project, including the DVPI health staff, project director, project coordinator, and other key personnel, showing the role of each and their level of effort and qualifications. Demonstrate successful project implementation for the level of effort budgeted for the DVPI staff, project director, project coordinator, and other key staff.

7. Include position descriptions as attachments to the application for the behavioral health staff, project director, project coordinator, and all key personnel. Position descriptions should not exceed one page each. [Note: Attachments will not count against the 10 page maximum.]

8. For individuals that are currently on staff, include a biographical sketch (not to include personally identifiable information) for each individual that will be listed as the behavioral health staff, project director, project coordinator, and other key positions. Describe the experience of identified staff in domestic violence and sexual assault work in the community/communities. Include each biographical sketch as attachments to the project proposal/application. Biographical sketches should not exceed one page per staff member. Reviewers will not consider information past page one. [Note: Attachments will not count against the 10 page maximum.] Do not include any of the following:

Personally Identifiable Information;

Resumes; or

Curriculum Vitae.

D. Local Data Collection Plan (20 Points)

(1) Utilizing the Local Data Collection Plan (LDCP) template, applicants should describe a plan for gathering data relevant to the DVPI Purpose Area #1 or Purpose Area #2 Objectives. This includes a plan for each activity that details:

• A data collection method, a data source, a data measurement tool, identified staff for data management, and a data collection timeline.

• In addition, a narrative section after the template should describe how the applicant will submit the required data, how the applicant will monitor the data, and outline the applicant's ability to ensure accurate data tracking and reporting (e.g., submission of annual progress reporting requirements).

E. Budget and Budget Narrative (10 Points)

1. Include a line item budget for all expenditures identifying reasonable and allowable costs necessary to accomplish the goals and objectives as outlined in the project narrative for Budget Year 1 only. The budget should match the scope of work described in the project narrative for the first budget year expenses only.

2. The applicant must provide a budget narrative justification of the items included in the proposed line item budget supporting the mission and goals of DVPI.

3. Applicants should ensure that the budget and budget narrative are aligned with the project narrative. The Budget and Budget Narrative the applicant provides will be considered by reviewers in assessing the applicant's submission, along with the material in the Project Narrative.

4. The budget and budget narrative must not exceed four single-spaced pages.

Additional Documents Can Be Uploaded as Appendix Items in Grants.gov

• Work plan, logic model and/or time line for proposed objectives.

• Position descriptions for key staff.

• Resumes of key staff that reflect current duties.

• Consultant or contractor proposed scope of work and letter of commitment (if applicable).

• Current Indirect Cost Agreement.

• Organizational chart.

• Map of area identifying project location(s).

• Additional documents to support narrative (i.e., data tables, key news articles, etc.).

2. Review and Selection

Each application will be prescreened by the DGM staff for eligibility and completeness as outlined in the funding announcement. Applications that meet the eligibility criteria shall be reviewed for merit by the ORC based on evaluation criteria in this funding announcement. The ORC could be composed of both Tribal and Federal reviewers appointed by the IHS Program to review and make recommendations on these applications. The technical review process ensures selection of quality projects in a national competition for limited funding. Incomplete applications and applications that are non-responsive to the eligibility criteria will not be referred to the ORC. The applicant will be notified via email of this decision by the Grants Management Officer of the DGM. Applicants will be notified by DGM, via email, to outline minor missing components (e.g, budget narratives, audit documentation, key contact form) needed for an otherwise complete application. All missing documents must be sent to DGM on or before the due date listed in the email of notification of missing documents required.

To obtain a minimum score for funding by the ORC, applicants must address all program requirements and provide all required documentation.

VI. Award Administration Information

1. Award Notices

The NoA is a legally binding document signed by the Grants Management Officer and serves as the official notification of the grant award. The NoA will be initiated by the DGM in our grant system, GrantSolutions (https://www.grantsolutions.gov). Each entity that is approved for funding under this announcement will need to request or have a user account in GrantSolutions in order to retrieve their NoA. The NoA is the authorizing document for which funds are dispersed to the approved entities and reflects the amount of Federal funds awarded, the purpose of the grant, the terms and conditions of the award, the effective date of the award, and the budget/project period.

Disapproved Applicants

Applicants who received a score less than the recommended funding level for approval, 65, and were deemed to be disapproved by the ORC, will receive an Executive Summary Statement from the IHS program office within 30 days of the conclusion of the ORC outlining the strengths and weaknesses of their application. The summary statement will be sent to the Authorized Organizational Representative that is identified on the face page (SF-424) of the application. The IHS program office will also provide additional contact information as needed to address questions and concerns as well as provide technical assistance if desired.

Approved But Unfunded Applicants

Approved but unfunded applicants that met the minimum scoring range and were deemed by the ORC to be “Approved”, but were not funded due to lack of funding, will have their applications held by DGM for a period of one year. If additional funding becomes available during the course of FY 2017 the approved but unfunded application may be re-considered by the awarding program office for possible funding. The applicant will also receive an Executive Summary Statement from the IHS program office within 30 days of the conclusion of the ORC.

Note: Any correspondence other than the official NoA signed by an IHS grants management official announcing to the project director that an award has been made to their organization is not an authorization to implement their program on behalf of IHS.

2. Administrative Requirements

Grants are administered in accordance with the following regulations and policies:

A. The criteria as outlined in this program announcement.

B. Administrative Regulations for Grants:

• Uniform Administrative Requirements for HHS Awards, located at 45 CFR part 75.

C. Grants Policy:

• HHS Grants Policy Statement, Revised 01/07.

D. Cost Principles:

• Uniform Administrative Requirements for HHS Awards, “Cost Principles,” located at 45 CFR part 75, subpart E.

E. Audit Requirements:

• Uniform Administrative Requirements for HHS Awards, “Audit Requirements,” located at 45 CFR part 75, subpart F.

3. Indirect Costs

This section applies to all grant recipients that request reimbursement of indirect costs (IDC) in their grant application. In accordance with HHS Grants Policy Statement, Part II-27, IHS requires applicants to obtain a current IDC rate agreement prior to award. The rate agreement must be prepared in accordance with the applicable cost principles and guidance as provided by the cognizant agency or office. A current rate covers the applicable grant activities under the current award's budget period. If the current rate is not on file with the DGM at the time of award, the IDC portion of the budget will be restricted. The restrictions remain in place until the current rate is provided to the DGM.

Generally, IDC rates for IHS grantees are negotiated with the Division of Cost Allocation (DCA) https://rates.psc.gov/ and the Department of Interior (Interior Business Center) https://www.doi.gov/ibc/services/finance/indirect-Cost-Services/indian-tribes. For questions regarding the indirect cost policy, please call the Grants Management Specialist listed under “Agency Contacts” or the main DGM office at (301) 443-5204.

4. Reporting Requirements

The grantee must submit required reports consistent with the applicable deadlines. Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This requirement applies whether the delinquency is attributable to the failure of the grantee organization or the individual responsible for preparation of the reports. Per DGM policy, all reports are required to be submitted electronically by attaching them as a “Grant Note” in GrantSolutions. Personnel responsible for submitting reports will be required to obtain a login and password for GrantSolutions. Please see the Agency Contacts list in section VII for the systems contact information.

The reporting requirements for this program are noted below.

A. Progress Reports

Program progress reports are required to be submitted annually, within 30 days after the annual budget period ends. Progress reports will include an online submission of standard questions that will be provided to each grantee. Additional information for reporting and associated requirements will be included in the “Programmatic Terms and Conditions” in the official NoA, if funded.

A final program progress report must be submitted within 90 days of expiration of the budget/project period.

B. Financial Reports

Federal Financial Report (FFR or SF-425), Cash Transaction Reports are due 30 days after the close of every calendar quarter to the Payment Management Services, HHS at https://pms.psc.gov. It is recommended that the applicant also send a copy of the FFR (SF-425) report to the Grants Management Specialist. Failure to submit timely reports may cause a disruption in timely payments to the organization.

Grantees are responsible and accountable for accurate information being reported on all required reports: The Progress Reports and Federal Financial Report.

C. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for recipients of Federal grants to report information about first-tier sub-awards and executive compensation under Federal assistance awards.

IHS has implemented a Term of Award into all IHS Standard Terms and Conditions, NoAs and funding announcements regarding the FSRS reporting requirement. This IHS Term of Award is applicable to all IHS grant and cooperative agreements issued on or after October 1, 2010, with a $25,000 sub-award obligation dollar threshold met for any specific reporting period. Additionally, all new (discretionary) IHS awards (where the project period is made up of more than one budget period) and where: (1) The project period start date was October 1, 2010 or after and (2) the primary awardee will have a $25,000 sub-award obligation dollar threshold during any specific reporting period will be required to address the FSRS reporting.

For the full IHS award term implementing this requirement and additional award applicability information, visit the DGM Grants Policy Web site at: http://www.ihs.gov/dgm/policytopics/.

D. Compliance With Executive Order 13166 Implementation of Services Accessibility Provisions for All Grant Application Packages and Funding Opportunity Announcements

Recipients of federal financial assistance (FFA) from HHS must administer their programs in compliance with federal civil rights law. This means that recipients of HHS funds must ensure equal access to their programs without regard to a person's race, color, national origin, disability, age and, in some circumstances, sex and religion. This includes ensuring your programs are accessible to persons with limited English proficiency. HHS provides guidance to recipients of FFA on meeting their legal obligation to take reasonable steps to provide meaningful access to their programs by persons with limited English proficiency. Please see http://www.hhs.gov/civil-rights/for-individuals/special-topics/limited-english-proficiency/guidance-federal-financial-assistance-recipients-title-VI/.

The HHS Office for Civil Rights (OCR) also provides guidance on complying with civil rights laws enforced by HHS. Please see http://www.hhs.gov/civil-rights/for-individuals/section-1557/index.html; and http://www.hhs.gov/civil-rights/index.html. Recipients of FFA also have specific legal obligations for serving qualified individuals with disabilities. Please see http://www.hhs.gov/civil-rights/for-individuals/disability/index.html.

Please contact the HHS OCR for more information about obligations and prohibitions under federal civil rights laws at https://www.hhs.gov/ocr/about-us/contact-us/index.html or call 1-800-368-1019 or TDD 1-800-537-7697. Also note it is an HHS Departmental goal to ensure access to quality, culturally competent care, including long-term services and supports, for vulnerable populations. For further guidance on providing culturally and linguistically appropriate services, recipients should review the National Standards for Culturally and Linguistically Appropriate Services in Health and Health Care at https://minorityhealth.hhs.gov/omh/browse.aspx?lvl=2&lvlid=53.

Pursuant to 45 CFR 80.3(d), an individual shall not be deemed subjected to discrimination by reason of his/her exclusion from benefits limited by federal law to individuals eligible for benefits and services from the IHS.

Recipients will be required to sign the HHS-690 Assurance of Compliance form which can be obtained from the following Web site: http://www.hhs.gov/sites/default/files/forms/hhs-690.pdf, and send it directly to the: U.S. Department of Health and Human Services, Office of Civil Rights, 200 Independence Ave. SW., Washington, DC 20201.

F. The IHS is required to review and consider any information about the applicant that is in the Federal Awardee Performance and Integrity Information System (FAPIIS) before making any award in excess of the simplified acquisition threshold (currently $150,000) over the period of performance. An applicant may review and comment on any information about itself that a federal awarding agency previously entered. IHS will consider any comments by the applicant, in addition to other information in FAPIIS in making a judgment about the applicant's integrity, business ethics, and record of performance under federal awards when completing the review of risk posed by applicants as described in 45 CFR 75.205.

As required by 45 CFR part 75 Appendix XII of the Uniform Guidance, non-federal entities (NFEs) are required to disclose in FAPIIS any information about criminal, civil, and administrative proceedings, and/or affirm that there is no new information to provide. This applies to NFEs that receive federal awards (currently active grants, cooperative agreements, and procurement contracts) greater than $10,000,000 for any period of time during the period of performance of an award/project.

Mandatory Disclosure Requirements

As required by 2 CFR part 200 of the Uniform Guidance, and the HHS implementing regulations at 45 CFR part 75, effective January 1, 2016, the IHS must require a non-federal entity or an applicant for a federal award to disclose, in a timely manner, in writing to the IHS or pass-through entity all violations of federal criminal law involving fraud, bribery, or gratuity violations potentially affecting the federal award.

Submission is required for all applicants and recipients, in writing, to the IHS and to the HHS Office of Inspector General all information related to violations of federal criminal law involving fraud, bribery, or gratuity violations potentially affecting the federal award. 45 CFR 75.113.

Disclosures must be sent in writing to:

U.S. Department of Health and Human Services, Indian Health Service, Division of Grants Management, ATTN: Robert Tarwater, Director, 5600 Fishers Lane, Mail Stop: 09E70, Rockville, MD 20857. (Include “Mandatory Grant Disclosures” in subject line), Office: (301) 443-5204, Fax: (301) 594-0899, Email: Robert.Tarwater@ihs.gov

And

U.S. Department of Health and Human Services, Office of Inspector General, ATTN: Mandatory Grant Disclosures, Intake Coordinator, 330 Independence Avenue SW., Cohen Building, Room 5527, Washington, DC 20201, URL: http://oig.hhs.gov/fraud/report-fraud/index.asp. (Include “Mandatory Grant Disclosures” in subject line), Fax: (202) 205-0604 (Include “Mandatory Grant Disclosures” in subject line) or Email: MandatoryGrantee Disclosures@oig.hhs.gov.

Failure to make required disclosures can result in any of the remedies described in 45 CFR 75.371 Remedies for noncompliance, including suspension or debarment (see 2 CFR parts 180 & 376 and 31 U.S.C. 3321).

VII. Agency Contacts

1. Questions on the programmatic issues may be directed to: Selina T. Keryte, Public Health Analyst, DVPI National Coordinator, Division of Behavioral Health, 5600 Fishers Lane, Mail Stop: 08N34-A, Rockville, MD 20857, Phone: (301) 443-7064, Fax: (301) 594-6213, Email: Selina.keryte@ihs.gov

2. Questions on grants management and fiscal matters may be directed to: Andrew Diggs, Grants Management Specialist, 5600 Fishers Lane, Mail Stop: 09E70, Rockville, MD 20857, Phone: (301) 443-2241, Fax: (301) 594-0899, Email: Andrew.Diggs@ihs.gov

3. Questions on systems matters may be directed to: Paul Gettys, Grant Systems Coordinator, 5600 Fishers Lane, Mail Stop: 09E70, Rockville, MD 20857, Phone: (301) 443-2114; or the DGM main line: (301) 443-5204, Fax: (301) 594-0899, Email: Paul.Gettys@ihs.gov

VIII. Other Information

The Public Health Service strongly encourages all cooperative agreement and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Dated: July 21, 2017.
Michael D. Weahkee,
RADM, Assistant Surgeon General, U.S. Public Health Service, Acting Director, Indian Health Service.

[FR Doc. 2017-15933 Filed 7-27-17; 8:45 am]

BILLING CODE 4165-16-P